NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 1, 2021. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-011

1. Applicant: Dr. John Durban, 446 Harbor Vista Drive, Friday Harbor WA, 98250.

Activity for Which Permit is Requested: Waste Management. The applicant seeks a waste management permit under the Antarctic Conservation Act for activities associated with ongoing cetacean research in the Southern Ocean and Antarctic Peninsula region. The applicant proposes using unmanned aerial systems (UAS) pilots from ships and small boats to collect photogrammetry images and blow samples from whales. UAS flights will be performed by experienced pilots and will last for a period of under 30 minutes. In addition to the pilots' extensive experience, mitigation measures will be put into place to minimize loss of equipment and to recover equipment in the unlikely event of equipment failure. The applicant also seeks to use small projectile biopsy darts to collect tissue samples. Following discharge and sampling, the darts will float, and high-visibility collars ensure a high likelihood for retrieval.

Location: Antarctic Peninsula Region. Southern Ross Sea Region.

Dates of Permitted Activities: December 1, 2021-April 30, 2026.

Erika N. Davis,
Program Specialist, Office of Polar Programs.

[FR Doc. 2021-21202 Filed 9-29-21; 8:45 am]

BILLING CODE 7555-01-P